DEPARTMENT OF COMMERCE

National Oceanic and Atmospheric Administration

RIN 0648-XN63

Marine Mammals; File No. 774-1714

AGENCY: National Marine Fisheries Service (NMFS), National Oceanic and Atmospheric Administration (NOAA), Commerce.

ACTION: Notice; receipt of application for amendment.

SUMMARY: Notice is hereby given that the National Marine Fisheries Service, Southwest Fisheries Science Center (SWFSC) (Jeremy Rusin, Principal Investigator), 3333 N. Torrey Pines Ct., La Jolla, CA 92037 has applied for an amendment to Scientific Research Permit No. 774-1714-09.

DATES: Written, telefaxed, or e-mail comments must be received on or before April 2, 2009.

ADDRESSES: The application and related documents are available for review by selecting “Records Open for Public Comment” from the Features box on the Applications and Permits for Protected Species (APPS) home page, https://apps.nmfs.noaa.gov/index.cfm, and then selecting File No. 774-1714 from the list of available applications.

These documents are also available upon written request or by appointment in the following offices:

Permits, Conservation and Education Division, Office of Protected Resources, NMFS, 1315 East-West Highway, Room 13705, Silver Spring, MD 20910; phone (301)713-2289; fax (301)427-2521 and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 774-1714.

FOR FURTHER INFORMATION CONTACT: Amy Hapeman or Kristy Beard, (301)713-2289.

SUPPLEMENTARY INFORMATION: The subject amendment to Permit No. 774-1714 issued on June 30, 2004 (68 FR 57673) is requested under the authority of the Marine Mammal Protection Act of 1972, as amended (16 U.S.C. 1361 et seq.), and the regulations governing the taking and importing of marine mammals (50 CFR part 216).

Permit No. 774-1714-09 authorizes the SWFSC to conduct research on seven pinniped species, 53 cetacean species, and five sea turtle species in the Pacific, Indian, Atlantic, Arctic and Southern Oceans. The permit authorizes Level B harassment during aerial and vessel surveys for photo-identification/photogrammetry, incidental harassment, collection of sloughed skin, and salvage of carcasses and parts; Level A harassment for capture, biopsy sampling, and tagging activities; and the import/export of specimens. The permit holder requests the permit be amended to increase the number of short-beaked and long-beaked common dolphins (Delphinus spp.) that may be harassed during vessel and aerial surveys. For each species, up to 60,000 dolphins would be harassed annually during aerial surveys, up to 10,000 approached by vessel for photo-identification and 1,500 for biopsy sampling annually. During research up to 40,000 animals of each species may be incidentally harassed annually. The purposes of this research are to investigate the life history traits and assess the relative reproductive rates of these species off the coast of California and Baja California. The amendment would be valid for the duration of the permit, which currently expires on June 30, 2009.

Concurrent with the publication of this notice in the Federal Register, NMFS is forwarding copies of this application to the Marine Mammal Commission and its Committee of Scientific Advisors.

Dated: February 24, 2009.
P. Michael Payne,
Chief, Permits, Conservation and Education Division, Office of Protected Resources, National Marine Fisheries Service.

[FR Doc. E9-4375 Filed 3-2-09; 8:45 am]

BILLING CODE 3510-22-S